DEPARTMENT OF THE INTERIOR

Bureau of Land Management

[LLOR936000-L14300000-ET0000; HAG-12-0184; OROR-47267]

Public Land Order No. 7800; Extension of Public Land Order No. 6947; Oregon

AGENCY: Bureau of Land Management, Interior.

ACTION: Public Land Order.

SUMMARY: This order extends the duration of the withdrawal created by Public Land Order No. 6947 for an additional 20-year period. The extension is necessary to continue protection of the recreational rockhounding area of the Thunder Egg Lake Agate Beds located in the Fremont National Forest in Oregon, which would otherwise expire on September 21, 2012.

DATES: Effective Date: September 22, 2012.

FOR FURTHER INFORMATION CONTACT: Michael L. Barnes, Bureau of Land Management, Oregon/Washington State Office, 333 SW 1st Ave., Portland, Oregon 97204, 503-808-6155, or Dianne Torpin, United States Forest Service, Pacific Northwest Region, 333 SW 1st Ave., Portland, Oregon 97204, 503-808-2422. Persons who use a telecommunications device for the deaf (TDD) may call the Federal Information Relay Service (FIRS) at 1-800-877-8339 to contact either of the above individuals. The FIRS is available 24 hours a day, 7 days a week to leave a message or question with either of the above individuals. You will receive a reply during normal business hours.

SUPPLEMENTARY INFORMATION: The purpose for which the withdrawal was first made requires this extension to continue protection of the Thunder Egg Lake Agate Beds in the Freemont National Forest. The withdrawal extended by this order will expire on September 21, 2032, unless, as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6947 (57 FR 43618 (1992)), which withdrew 150 acres of National Forest System land from location and entry under the United States mining laws (30 U.S.C. chapter 2), but not from leasing under the mineral leasing laws, to protect the Thunder Egg Lake Agate Beds, is hereby extended for an additional 20-year period until September 21, 2032.

Dated: September 7, 2012.
Rhea S. Suh,
Assistant Secretary—Policy, Management and Budget.

[FR Doc. 2012-23476 Filed 9-21-12; 8:45 am]

BILLING CODE 3410-11-P